DEPARTMENT OF THE TREASURY

Internal Revenue Service

26 CFR Part 1

Determination of Interest Expense Deduction of Foreign Corporations

CFR Correction

In Title 26 of the Code of Federal Regulations, Part 1 (§§ 1.851 to 1.907), revised as of April 1, 2009, in § 1.882-5, move paragraph (d)(2)(ii)(B) introductory text from the second column on page 435 to the first column on page 436, following paragraph (2) through (3).

[FR Doc. 2010-6463 Filed 3-22-10; 8:45 am]

BILLING CODE 1505-01-D